DEPARTMENT OF TRANSPORTATION

Pipeline and Hazardous Materials Safety Administration

[Docket No. PHMSA-2012-0247; Notice No. 12-09]

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 42nd session of the United Nations Sub-Committee of Experts on the Transport of Dangerous Goods (UNSCOE TDG) to be held December 3 to 11, 2012, in Geneva, Switzerland. During this meeting, PHMSA is also soliciting comments relative to potential new work items which may be considered for inclusion in its international agenda.

Information Regarding The UNSCOE TDG Public Meeting:

DATES: Wednesday, November 28, 2012; 9:00 a.m.-12:00 noon.

ADDRESSES: The meeting will be held at the DOT Headquarters, West Building, Conference Rooms 8-10, 1200 New Jersey Avenue SE., Washington, DC 20590.

Registration: It is requested that attendees pre-register for this meeting by completing the form at http://www.phmsa.dot.gov/hazmat/regs/international. Failure to pre-register may delay your access to the building. Participants attending in person are encouraged to arrive early to allow time for security checks necessary to obtain access to the building.

Conference Call Capability/Live Meeting Information: Conference call-in and “live meeting” capability will be provided for this meeting. Specific information on call-in and live meeting access will be posted when available at http://www.phmsa.dot.gov/hazmat/regs/international.

FOR FURTHER INFORMATION CONTACT: Vincent Babich or Kevin Leary, Office of Hazardous Materials Safety, International Standards, Department of Transportation, Washington, DC 20590; (202) 366-8553.

SUPPLEMENTARY INFORMATION: The primary purpose of this meeting will be to prepare for the 42nd session of the UNSCOE TDG. The 42nd session of the UNSCOE TDG is the final meeting scheduled for the 2011-2012 biennium. The UNSCOE will consider proposals for the 18th Revised Edition of the United Nations Recommendations on the Transport of Dangerous Goods Model Regulations which will be implemented within relevant domestic, regional, and international regulations from January 1, 2015. Copies of working documents, informal documents, and the meeting agenda may be obtained from the United Nations Transport Division's Web site at http://www.unece.org/trans/main/dgdb/dgsubc3/c3age.html.

General topics on the agenda for the UNSCOE TDG meeting include:

• Explosives and related matters

• Listing, classification and packing

• Electric storage systems

• Miscellaneous proposals of amendments to the Model Regulations

• Cooperation with the International Atomic Energy Agency (IAEA)

• Global harmonization of transport of dangerous goods regulations

• New proposals for amendments to the Model Regulations

• Globally Harmonized System of Classification and Labeling of Chemicals (GHS)

Since this is the final session of the UNSCOE TDG for the current biennium, the Sub-Committee will establish its work plan for the 2013-2014 biennium during this meeting. PHMSA is soliciting comments and input for the 2013-2014 biennium work plan.

Following the 42nd session of the UNSCOE TDG, a copy of the Sub-Committee's report will be available at the United Nations Transport Division's web site at http://www.unece.org/trans/main/dgdb/dgsubc3/c3rep.html. PHMSA's site at http://www.phmsa.dot.gov/hazmat/regs/international provides additional information regarding the UNSCOE TDG and related matters.

Issued in Washington, DC, on November 15, 2012 under authority delegated in 49 CFR part 106.
Magdy El-Sibaie,
Associate Administrator for Hazardous Materials Safety, Pipeline and Hazardous Materials Safety Administration.

[FR Doc. 2012-28253 Filed 11-20-12; 8:45 am]

BILLING CODE 4910-60-P